MERIT SYSTEMS PROTECTION BOARD

Agency Information Collection Activities; Reinstatement and Revision of a Previously Approved Information Collection; Comment Request

AGENCY: Merit Systems Protection Board.

ACTION: 30-Day notice and request for comments.

SUMMARY: The U.S. Merit Systems Protection Board (MSPB) is seeking to reinstate and revise a previously approved information collection in accordance with the Paperwork Reduction Act (PRA) of 1995. The Information Collection Request (ICR) will be submitted to the Office of Management and Budget (OMB) pursuant to the PRA for review and clearance. This information collection, entitled, “Generic Clearance Request for Voluntary Customer Surveys,” OMB Control No. 3124-0012, is part of MSPB's efforts to improve customer service delivery. The information collection instruments consist of short customer-focused surveys distributed through Qualtrics, MSPB's survey platform. MSPB is requesting public comments. The purpose of this notice is to allow 30 days for public comment after submission of the collection to OMB.

DATES: Consideration will be given to all comments received by July 10, 2023.

ADDRESSES: Submit written comments on the proposed information collection to the Office of Information and Regulatory Affairs, OMB. Comments should be addressed to the Desk Officer for the Merit Systems Protection Board and sent via electronic mail to oira.submission@omb.eop.gov.

All comments must reference OMB Control No. 3124-0012. All submissions will be posted, without change, to MSPB's website (www.mspb.gov) and will include any personal information you provide. Therefore, submitting this information makes it public.

FOR FURTHER INFORMATION CONTACT: D. Fon Muttamara, Chief Privacy Officer, at privacy@mspb.gov or (202) 653-7200. You may submit written questions to the Office of the Clerk of the Board by any of the following methods: by email to privacy@mspb.gov or by mail to Clerk of the Board, U.S. Merit Systems Protection Board, 1615 M Street NW, Washington, DC 20419. Please reference OMB Control No. 3124-0012 with your questions.

SUPPLEMENTARY INFORMATION: MSPB intends to request approval for a reinstatement and revision of a previously approved information collection and seeks a three-year renewal of its MSPB's “Generic Clearance Request for Voluntary Customer Surveys,” OMB Control No. 3124-0012, which was previously published in the Federal Register on March 28, 2023, at 88 FR 18349 with a 60-day public comment period. No comments were received. The purpose of this 30-day notice is to notify the public that MSPB will submit the information collection abstracted below to OMB for review and clearance.

Title: Agency Information Collection Activities; Reinstatement and Revision of a Previously Approved Information Collection.

OMB Number: 3124-0012.

Type of Information Collection: This is a request for reinstatement and revision of a previously approved information collection.

ICR Status: MSPB intends to request approval for reinstatement and revision of a previously approved information collection from OMB under the PRA of 1995. An agency may not conduct or sponsor, and a person is not required to respond to, a collection of information unless it displays a currently valid OMB control number.

Abstract of Proposed Collection: This collection is part of MSPB's compliance efforts pursuant to Executive Order 12862, “Setting Customer Service Standards,” which mandates that agencies identify their customers and survey them to determine the kind and quality of services they want and their level of satisfaction with existing services. Responses to any collection of information under this ICR are voluntary.

Affected Public: Individuals and Households; Businesses and Organizations.

Estimated Total Number of Respondents: 600.

Estimated Frequency of Responses: Once per year.

Estimated Total Average Number of Responses for Each Respondent: Once per year.

Estimated Total Annual Burden Hours: 300.

Estimated Total Cost: $11,370.

Comments: Comments should be submitted as indicated in the ADDRESSES caption above. Comments are solicited to: (a) evaluate whether the collection of information is necessary for the proper performance of the functions of MSPB, including whether the information shall have practical utility; (b) evaluate the accuracy of MSPB's estimate of the burden of the collection of information; (c) enhance the quality, utility, and clarity of the information to be collected; (d) minimize the burden of the collection of information on respondents, including through the use of automated collection techniques or other forms of information technology; and (e) evaluate the estimates of capital or start-up costs and costs of operation, maintenance, and purchase of services to provide information. Burden means the total time, effort, or financial resources expended by persons to generate, maintain, retain, disclose, or provide information to or for a Federal agency. This includes the time needed to review instructions; to develop, acquire, install, and utilize technology and systems for the purpose of collecting, validating and verifying information, processing and maintaining information, and disclosing and providing information; to train personnel and to be able to respond to a collection of information, to search data sources, to complete and review the collection of information; and to transmit or otherwise disclose the information.

Jennifer Everling,
Acting Clerk of the Board.

[FR Doc. 2023-12213 Filed 6-7-23; 8:45 am]

BILLING CODE 7400-01-P